DEPARTMENT OF HEALTH AND HUMAN SERVICES

National Institutes of Health

Center for Scientific Review; Amended Notice of Meeting

Notice is hereby given of a change in the meeting of the Medical Imaging Study Section, October 07, 2013, 08:00 a.m. to October 08, 2013, 05:00 p.m., National Institutes of Health, 6701 Rockledge Drive, Bethesda, MD, 20892 which was published in the Federal Register on September 10, 2013, FR 78 55268-55270.

The meeting will be held October 7, 2013, 9:30 a.m. to 5:30 p.m. The meeting location remains the same. The meeting is closed to the public.

Dated: September 18, 2013.
Michelle Trout,
Program Analyst, Office of Federal Advisory Committee Policy.

[FR Doc. 2013-23081 Filed 9-23-13; 8:45 am]

BILLING CODE 4140-01-P